DEPARTMENT OF TRANSPORTATION

Federal Aviation Administration

Agency Information Collection Activities: Requests for Comments; Clearance of Renewed Approval of Information Collection: Maintenance, Preventative Maintenance, Rebuilding and Alteration

AGENCY: Federal Aviation Administration (FAA), DOT.

ACTION: Notice and request for comments.

SUMMARY: In accordance with the Paperwork Reduction Act of 1995, FAA invites public comments about our intention to request the Office of Management and Budget (OMB) approval to renew an information collection. The Federal Register Notice with a 60-day comment period soliciting comments on the following collection of information was published on April 14, 2014, vol. 79, no. 71, page 20964. FAR Part 43 prescribes the rules governing maintenance, rebuilding, and alteration of aircraft components, and is necessary to ensure this work is performed by qualified persons and at proper intervals.

DATES: Written comments should be submitted by July 24, 2014.

FOR FURTHER INFORMATION CONTACT: Kathy DePaepe at (405) 954-9362, or by email at: Kathy.DePaepe@faa.gov.

SUPPLEMENTARY INFORMATION: OMB Control Number: 2120-0020.

Title: Maintenance, Preventative Maintenance, Rebuilding and Alteration.

Form Numbers: FAA Form 337.

Type of Review: Renewal of an information collection.

Background: FAR Part 43 prescribes the rules governing maintenance, rebuilding, and alteration of aircraft components, and is necessary to ensure this work is performed by qualified persons, and at proper intervals. This work is done by certified mechanics, repair stations, and air carriers authorized to perform major alterations and major repairs. Proper maintenance records are essential to ensure that an aircraft is properly maintained and is mechanically safe for flight.

Respondents: An estimated 87,769 certified mechanics, repair stations, and air carriers authorized to perform maintenance.

Frequency: Information is collected as needed.

Estimated Average Burden per Response: 30 minutes to one hour per response.

Estimated Total Annual Burden: 34,125 hours.

ADDRESSES: Interested persons are invited to submit written comments on the proposed information collection to the Office of Information and Regulatory Affairs, Office of Management and Budget. Comments should be addressed to the attention of the Desk Officer, Department of Transportation/FAA, and sent via electronic mail to oira_submission@omb.eop.gov, or faxed to (202) 395-6974, or mailed to the Office of Information and Regulatory Affairs, Office of Management and Budget, Docket Library, Room 10102, 725 17th Street NW., Washington, DC 20503.

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

Issued in Washington, DC, on June 18, 2014.
Albert R. Spence,
FAA Assistant Information Collection Clearance Officer, IT Enterprises Business Services Division, ASP-110.

[FR Doc. 2014-14689 Filed 6-23-14; 8:45 am]

BILLING CODE 4910-13-P